DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of emergency open public meeting.

SUMMARY: Notice is hereby given of a meeting of the Sanctuary System Business Advisory Council (council). The meeting is open to the public, and an opportunity for oral and written comments will be provided.

DATES: The meeting will be held on Friday, August 25, 2023 from 12 p.m. to 1 p.m. ET, and an opportunity for public comment will be provided around 1:40 p.m. ET. Both times and agenda topics are subject to change.

ADDRESSES: The meeting will be held virtually using Google Meet. To participate, please use the weblink provided below. If you are unable to participate online, you can also connect to the public meeting using the phone number provided.

Weblink: meet.google.com/fsz-qnfn-mny.

Phone: +1 413-357-2090 PIN: 409 930 149#.

To provide an oral public comment during the virtual meeting, please sign up prior to or during the meeting by contacting Sage Riddick by phone (240-560-3365) or email (sage.riddick@noaa.gov). To provide written public comment, please send the comment to Sage Riddick prior to or during the meeting via email (sage.riddick@noaa.gov). Please note, the meeting will not be recorded. However, public comments, including any associated names, will be captured in the minutes of the meeting, will be maintained by the Office of National Marine Sanctuaries (ONMS) as part of its administrative record, and may be subject to release pursuant to the Freedom of Information Act. The entirety of the comment, including the name of the commenter, email address, attachments, and other supporting materials, will be publicly accessible. Sensitive personally identifiable information, such as account numbers and Social Security numbers, should not be included with the comment. By signing up to provide a public comment, you agree that these communications, including your name and comment, will be maintained as described here.

FOR FURTHER INFORMATION CONTACT: Sage Riddick, Office of National Marine Sanctuaries, 1305 East-West Highway, Silver Spring, Maryland 20910 (Phone: 240-560-3365; Email: sage.riddick@noaa.gov).

SUPPLEMENTARY INFORMATION: ONMS serves as the trustee for a network of underwater parks encompassing more than 620,000 square miles (approximately 1,606,000 square km) of marine and Great Lakes waters from Washington State to the Florida Keys, and from Lake Huron to American Samoa. The network includes a system of 15 national marine sanctuaries and Papahānaumokuākea and Rose Atoll marine national monuments. National marine sanctuaries protect our Nation's most vital coastal and marine natural and cultural resources, and through active research, management, and public engagement, sustain healthy environments that are the foundation for thriving communities and stable economies.

One of the many ways ONMS ensures public participation in the designation and management of national marine sanctuaries is through the formation of advisory councils. The Sanctuary System Business Advisory Council (council) has been formed to provide advice and recommendations to the Director regarding the relationship of ONMS with the business community. Additional information on the council can be found at https://sanctuaries.noaa.gov/management/bac/.

Matters to be discussed: The meeting will include a discussion and vote on a letter from the council that would respond to a request for input on the development of a National Strategy for a Sustainable Ocean Economy from the Office of Science and Technology Policy and the Council on Environmental Quality, on behalf of the interagency Ocean Policy Committee (docket number OSTP-CE-2023-0009). This emergency meeting is called because, due to the deadline to submit comments on the request for input, the council's discussion and vote cannot wait until the next scheduled council meeting. For a complete agenda, including times and topics, please visit http://sanctuaries.noaa.gov/management/bac/meetings.html.

Authority: 16 U.S.C. 1431, et seq.

Matthew Stout,
Chief Of Staff, Office of National Marine Sanctuaries, National Ocean Service, National Oceanic and Atmospheric Administration.

[FR Doc. 2023-16965 Filed 8-7-23; 8:45 am]

BILLING CODE 3510-NK-P